DEPARTMENT OF TRANSPORTATION

Coast Guard

33 CFR Part 165

[CGD01-02-090]

RIN 2115-AA97

Safety Zone; East River, Manhattan, NY

AGENCY: Coast Guard, DOT.

ACTION: Final rule; correction.

SUMMARY: This document corrects a final rule published in the Federal Register on September 4, 2002, concerning the establishment of a safety zone in a portion of the waters of the East River, Western Channel, between Manhattan and Roosevelt Island, NY. That document contained the wrong regulation identifier number (RIN). The correct RIN, 2115-AA97, appears in the heading of this document.

DATES: This correction becomes effective September 10, 2002. The effective date of 33 CFR 165.167, created by the final rule we are correcting, remains 7 a.m. on September 16, 2002.

FOR FURTHER INFORMATION CONTACT: Lieutenant Luis E. Martinez, Waterways Oversight Branch, Coast Guard Activities New York, at (718) 354-4193, or James McLeod, Office of Regulations and Administrative Law, at 202-267-6233.

SUPPLEMENTARY INFORMATION:

Discussion of Correction

The heading of the Safety Zone; East River, Manhattan, NY, final rule published September 4, 2002, on page 56488 of the Federal Register, contained an incorrect regulation identifier number. The correct RIN is 2115-AA97. To advise the public of this error, we are publishing this notice of correction.

Correction of Publication

Accordingly, the final rule published September 4, 2002, as FR Doc. 02-22494, [docket number CGD01-02-090], is corrected as follows: On page 56488, in the heading, “RIN 2115-AE84” is corrected to read “RIN 2115-AA97”.

Dated: September 4, 2002.
S.G. Venckus,
Chief, Office of Regulations and Administrative Law, United States Coast Guard.

[FR Doc. 02-22948 Filed 9-9-02; 8:45 am]

BILLING CODE 4910-15-P